DEPARTMENT OF ENERGY

Federal Energy Regulatory Commission

[Docket No. CP06-52-000]

Bluestem Pipeline, L.L.C.; Notice of Petition

February 28, 2006.

Take notice that on January 19, 2006, Bluestem Pipeline, L.L.C. (Bluestem), 9520 North May Avenue, Suite 300, Oklahoma City, Oklahoma 73120, filed in Docket No. CP06-52-000 a petition for a declaratory order pursuant to Rule 207 of the Commission's Rules and Regulations (18 CFR 385.207). Specifically, Bluestem requests a finding that upon Bluestem's acquisition of certain natural gas facilities located in Allen County, Kansas, from Southern Star Central Gas Pipeline, its ownership and operation of the facilities will not be subject to the Commission's jurisdiction pursuant to the gathering exemption provided in section 1(b) of the Natural Gas Act.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “defiling” link at http://www.ferc.gov. Persons unable to file electronically should submit original and 14 copies of the protest or intervention to the Federal Energy Regulatory Commission, 888 First Street, NE., Washington, DC 20426.

This filing is accessible online at http://www.ferc.gov, using the “library” link and is available for review in the Commission's Public Reference Room in Washington, DC. There is a “subscription” link on the Web site that enables subscribers to receive e-mail notification when a document is added to a subscribed docket(s). For assistance with any FERC Online service, please e-mail FERCOnlineSupport@ferc.gov, or call (866) 208-3676 (toll free). For TTY, call (202) 502-8659.

Comment Date: March 20, 2006.

Magalia R. Salas,
Secretary.

[FR Doc. E6-3193 Filed 3-7-06; 8:45 am]

BILLING CODE 6717-01-P